DEPARTMENT OF HEALTH AND HUMAN SERVICES

Health Resources and Service Administration

Advisory Committee on Training in Primary Care Medicine and Dentistry; Notice of Meeting

In accordance with section 10(a)(2) of the Federal Advisory Committee Act (92), notice is hereby given of the following meeting:

NAME: Advisory Committee on Training in Primary Care Medicine and Dentistry (ACTPCMD).

DATES AND TIMES:

August 13, 2015 (8:30 a.m.-5:00 p.m.)

August 14, 2015 (8:30 a.m.-3:00 p.m.)

PLACE: Parklawn Building, Room 18-67, 5600 Fishers Lane, Rockville, Maryland 08057 and, Webinar and Conference Call Format.

STATUS: The meeting will be open to the public.

PURPOSE: The ACTPCMD provides advice and recommendations on a broad range of issues relating to grant programs authorized by Title VII, part C, sections 747 and 748 of the Public Health Service Act. The ACTPCMD members will discuss the 13th report on the role of health professions education in addressing the social determinants of health. The ACTPCMD's reports are submitted to the Secretary of Health and Human Services; the Committee on Health, Education, Labor, and Pensions of the Senate; and the Committee on Energy and Commerce of the House of Representatives.

AGENDA: The ACTPCMD agenda includes an opportunity for members to discuss the 13th report on the role of health profession education in addressing the social determinants of health. The official agenda will be available 2 days prior to the meeting on the HRSA Web site (http://www.hrsa.gov/advisorycommittees/bhpradvisory/actpcmd/index.html). Agenda items are subject to change as priorities dictate.

SUPPLEMENTARY INFORMATION: Requests to make oral comments or provide written comments to the ACTPCMD should be sent to Dr. Joan Weiss, Designated Federal Official, using the address and phone number below. Individuals who plan to participate in-person or on the conference call or webinar should notify Dr. Weiss at least 3 days prior to the meeting, using the address and phone number below. Members of the public will have the opportunity to provide comments. Interested parties should refer to the meeting subject as the HRSA Advisory Committee on Training in Primary Care Medicine and Dentistry.

The conference call-in number is 800-619-2521. The passcode is: 9271697.

The webinar link is https://hrsa.connectsolutions.com/actpcmd_aug2015/.

CONTACT: Anyone requesting information regarding the ACTPCMD should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Jackie Painter,
Director, Division of Executive Secretariat.

[FR Doc. 2015-17885 Filed 7-21-15; 8:45 am]

BILLING CODE 4165-15-P